DEPARTMENT OF TRANSPORTATION

Coast Guard

33 CFR Part 155

Oil or Hazardous Material Pollution Prevention Regulations for Vessels

CFR Correction

In Title 33 of the Code of Federal Regulations, parts 125 to 199, revised as of July 1, 1999, part 155 is corrected by reinstating §§155.235 and 155.240 to read as follows:

§ 155.235 Emergency towing capability for oil tankers.

An emergency towing arrangement shall be fitted at both ends on board all oil tankers of not less than 20,000 deadweight tons (dwt), constructed on or after September 30, 1997. For oil tankers constructed before September 30, 1997, such an arrangement shall be fitted at the first scheduled dry-docking, but not later than January 1, 1999. The design and construction of the towing arrangement shall be in accordance with IMO resolution MSC.35(63).

[CGD 95-028, 62 FR 51194, Sept. 30, 1997]

§ 155.240 Damage stability information for oil tankers and offshore oil barges.

(a) Owners or operators of oil tankers and offshore oil barges shall ensure that their vessels have prearranged, prompt access to computerized, shore-based damage stability and residual structural strength calculation programs.

(b) Vessel baseline strength and stability characteristics must be pre-entered into such programs and be consistent with the vessel's existing configuration.

(c) Access to the shore-based calculation program must be available 24 hours a day.

(d) At a minimum, the program must facilitate calculation of the following:

(1) Residual hull girder strength based on the reported extent of damage.

(2) Residual stability when the vessel's compartments are breached.

(3) The most favorable off-loading, ballasting, or cargo transfer sequences to improve residual stability, reduce hull girder stresses, and reduce ground-force reaction.

(4) The bending and shear stresses caused by pinnacle loads from grounding or stranding.

[CGD 90-068, 58 FR 67996, Dec. 22, 1993, as amended by USCG-1998-3799, 63 FR 35531, June 30, 1998]

[FR Doc. 00-55505 Filed X-XX-00, 8:45 am]

BILLING CODE 1505-01-D